INTERNATIONAL TRADE COMMISSION

[Investigation No. 731-TA-469 (Second Review)]

Electroluminescent Flat Panel Displays From Japan

AGENCY: International Trade Commission.

ACTION: Termination of five-year review.

SUMMARY: The subject five-year review was initiated in March 2005 to determine whether revocation of the antidumping duty order on electroluminescent flat panel displays from Japan would be likely to lead to continuation or recurrence of dumping and of material injury to a domestic industry. On June 2, 2005, the Department of Commerce published notice that it was revoking the order effective April 11, 2005 because “no interested domestic party responded to the sunset review notice of initiation by the applicable deadline * * *” (70 FR 32289). Accordingly, pursuant to section 751(c) of the Tariff Act of 1930 (19 U.S.C. 1675(c)), the subject review is terminated.

EFFECTIVE DATE: April 11, 2005.

FOR FURTHER INFORMATION CONTACT: Mary Messer (202-205-3193), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server http://www.usitc.gov.

Authority: This review is being terminated under authority of title VII of the Tariff Act of 1930; this notice is published pursuant to section 207.69 of the Commission's rules (19 CFR 207.69).

Issued: July 22, 2005.
By order of the Commission.
Marilyn R. Abbott,
Secretary to the Commission.

[FR Doc. 05-14878 Filed 7-26-05; 8:45 am]

BILLING CODE 7020-02-P